DEPARTMENT OF TRANSPORTATION

Office of the Secretary

[Docket No. OST-2005-21710]

Senior Executive Service Performance Review Boards Membership

AGENCY: Office of the Secretary, Department of Transportation (DOT).

ACTION: Notice of Performance Review Board (PRB) appointments.

SUMMARY: DOT publication of the names of the persons selected to serve on the various Departmental PRBs as required by 5 U.S.C. 4314(c)(4).

FOR FURTHER INFORMATION CONTACT: Patricia A. Prosperi, Departmental Director, Office of Human Resource Management, (202) 366-4088.

SUPPLEMENTARY INFORMATION: The persons named below have been selected to serve on one or more Departmental PRBs.

Issued in Washington, DC, on June 30, 2005.
Linda J. Washington,
Deputy Assistant Secretary for Administration.

Federal Railroad Administration

Jane H. Bachner, Deputy Associate Administrator for Industry and Intermodal Policy, Federal Railroad Administration.

Delmas Johnson, Associate Administrator for Administration, National Highway Traffic Safety Administration.

Judy Kaleta, Senior Counsel for Dispute Resolution, Office of the Secretary.

Margaret Reid, Associate Administrator for Administration and Finance, Federal Railroad Administration.

Joel Szabat, Program Manager, Federal Railroad Administration.

Mark Yachmetz, Associate Administrator for Railroad Development, Federal Railroad Administration.

Federal Transit Administration

Richard H. Doyle, Regional Administrator, Cambridge, MA, Federal Transit Administration.

Thomas Herlihy, Assistant General Counsel for Legislation, Office of the Secretary.

John W. Irvin, Associate Administrator for Communications and Congressional Affairs, Federal Transit Administration.

Patricia G. Smith, Associate Administrator for Commercial Space Transportation, Federal Aviation Administration.

Linda J. Washington, Deputy Assistant Secretary for Administration, Office of the Secretary.

National Highway Traffic Safety Administration

Jacquelyn Glassman, Chief Counsel, National Highway Traffic Safety Administration.

Arthur Hamilton, Associate Administrator for Federal Lands Highway Program, Federal Highway Administration.

Linda Lawson, Director, Office of Safety, Energy and Environment, Office of the Secretary.

Susan Gorcowski McLaughlin, Associate Administrator for Communications and Consumer Information, National Highway Traffic Safety Administration.

Ronald Medford, Senior Associate Administrator for Vehicle Safety, National Highway Traffic Safety Administration.

Federal Highway Administration

Frederick Isler, Associate Administrator for Civil Rights, Federal Highway Administration.

Brian Keeter, Associate Administrator for Public Affairs, Federal Highway Administration.

Jeffrey Paniati, Associate Administrator for Operations, Federal Highway Administration.

D. Marlene Thomas, Associate Administrator for Administration, Federal Motor Carrier Safety Administration.

Michael J. Vecchietti, Associate Administrator for Administration, Federal Highway Administration.

Maritime Administration

James E. Caponiti, Associate Administrator for National Security, Maritime Administration.

Bruce Carlton, Associate Administrator for Policy and International Trade, Maritime Administration.

Jean E. McKeever, Associate Administrator for Shipbuilding, Maritime Administration.

Margaret Reid, Associate Administrator for Administration and Finance, Federal Railroad Administration.

Eileen Roberson, Associate Administrator for Administration, Maritime Administration.

Office of the Secretary, Research and Innovative Technology Administration, and Saint Lawrence Seaway Development Corporation

Dorrie Aldrich, Associate Director, Office of Strategic Initiatives, Office of the Secretary.

Roberta D. Gabel, Assistant General Counsel for Environmental, Civil Rights, and General Law, Office of the Secretary.

Stacey Gerard, Associate Administrator, Office of Pipeline Safety, Pipeline and Hazardous Materials Safety Administration.

Daniel Matthews, Chief Information Officer, Office of the Secretary.

Craig Middlebrook, Deputy Administrator, Saint Lawrence Seaway Development Corporation.

Eric Peterson, Deputy Administrator, Research and Innovative Technology Administration.

Michael Trujillo, Departmental Director, Office of Civil Rights, Office of the Secretary.

Pipeline and Hazardous Materials Safety Administration

Dorrie Aldrich, Associate Director for Strategic Initiatives, Office of the Secretary.

Jane Bachner, Deputy Associate Administrator for Policy, Federal Railroad Administration.

Edward Brigham, Associate Administrator for Administration, Pipeline and Hazardous Materials Safety Administration.

Paula Ewen, Director, Office of Information and Management Services, Federal Highway Administration.

David Lev, Deputy Associate Administrator, Volpe Center, Research and Information Technology Administration.

Eric Peterson, Deputy Administrator, Research and Information Technology Administration.

Greg Walter, Senior Associate Administrator for Policy and Operations, National Highway Traffic Safety Administration.

Federal Motor Carrier Safety Administration

Brian Dettelbach, Assistant Inspector General for Legal Legislative and External Affairs, Office of Inspector General.

Chip Nottingham, Associate Administrator for Policy, Federal Highway Administration.

Terry Shelton, Associate Administrator for Research Technology and Information Management, Federal Motor Carrier Safety Administration.

D. Marlene Thomas, Associate Administrator for Administration, Federal Motor Carrier Safety Administration.

Linda J. Washington, Deputy Assistant Secretary for Administration, Office of the Secretary.

Office of Inspector General

Michael Delgado, Assistant Inspector General for Investigations, Treasury Inspector General for Tax Administration, Department of the Treasury.

Melissa Heist, Assistant Inspector General for Audit, Environmental Protection Agency.

Samuel Holland, Assistant Inspector General for Investigations, Federal Deposit Insurance Corporation.

Evelyn Klemstine, Assistant Inspector General for Auditing, National Aeronautics and Space Administration.

Helen Lew, Assistant Inspector General for Auditing, Department of Education.

David Montoya, Assistant Inspector General for Investigations, Department of the Interior.

Michael Stephens, Deputy Inspector General, Department of Housing and Urban Development.

Eugene Wesley, Assistant Inspector General for Auditing, General Services Administration.

Joseph Willever, Deputy Inspector General, Office of Personnel Management.

Mark Woods, Assistant Inspector General for Investigations, Department of Agriculture.

[FR Doc. 05-13540 Filed 7-8-05; 8:45 am]

BILLING CODE 4910-62-P